DEPARTMENT OF THE INTERIOR

National Park Service

36 CFR Part 13

RIN 1024-AC83

Special Regulations; Wrangell-St. Elias National Park and Preserve

AGENCY: National Park Service, Interior.

ACTION: Proposed rule.

SUMMARY: The proposed rulemaking will add the communities of Dot Lake, Tetlin, Tanacross, Northway (including Northway, Northway Village and Northway Junction) and Healy Lake as resident zone communities for Wrangell-St. Elias National Park (WRST). This action is in response to instructions from the Secretary of the Interior and requests by the Park Subsistence Resource Commission (SRC), the Southcentral Alaska Federal Subsistence Regional Advisory Council, and the affected communities. The addition of these communities to the resident zone will allow residents to engage in subsistence activities in the park without a National Park Service (NPS) subsistence permit.

DATES: Written comments will be accepted by mail, fax, or electronic mail through August 13, 2001.

ADDRESSES: Comments should be addressed to: Superintendent, Wrangell-St. Elias National Park and Preserve, P.O. Box 439, Copper Center, Alaska 99573. Fax (907) 822-7216. Email: Devi_Sharp@nps.gov.

FOR FURTHER INFORMATION CONTACT: Devi Sharp, Chief of Natural Resources, Wrangell-St. Elias National Park and Preserve, P.O. Box 439, Copper Center, Alaska 99573. Telephone (907) 822-5234.

SUPPLEMENTARY INFORMATION:

Background

In 1981, the NPS published regulations in 36 CFR, part 13 to implement the Alaska National Interest Lands Conservation Act (ANILCA) for the national park system units in Alaska. Because ANILCA restricted subsistence use in national parks to local rural residents, the implementing regulations included a method for identifying these residents. The primary method was to designate nearby communities with significant concentrations of subsistence users as “resident zone communities”. All of the residents in these communities are considered to be local rural residents and, therefore, eligible to use the park for subsistence purposes in accordance with regulations adopted or approved by the Department of Interior. Initially 18 communities near the park were designated as resident zone communities. At the time those communities were selected there were few published sources of information documenting subsistence use of park resources. The authors of the regulations had to rely heavily on the input of local residents regarding their subsistence uses of the park to determine which communities or areas would be eligible for resident zone status. Some communities near the park, including Dot Lake, Tetlin, Tanacross, Northway, and Healy Lake were not fully represented at the meetings when testimony was taken, and were not included in the resident zone when the final part 13 rule was published on June 17, 1981 (46 FR 31836). Section 13.43 provides a method and criteria (see following section, “Application of Criteria”) for adding communities to the resident zone. The residents of Dot Lake, Tetlin, Tanacross, Northway, and Healy Lake have tried, since the regulations were published, to be added in accordance with § 13.43. This proposed rule responds to that effort.

Origin of Requests To Add New Communities

Discussions by the SRC leading to a formal recommendation to add Northway to the Wrangell-St. Elias National Park resident zone were recorded in 1985. In August 1986, the Subsistence Resource Commission (SRC) forwarded their first recommendation to the Secretary of the Interior requesting that Northway be included as a resident zone community. The State of Alaska responded to the SRC in September of 1986 indicating that the issue was an NPS decision and that the State could not act directly to implement the recommendation. The Secretary of the Interior responded to the request in May of 1988. His response, in part, was,

In order to designate the community of Northway as a resident zone community, NPS would have to determine whether or not a significant concentration of people who permanently reside in this community have a history of customary and traditional subsistence use in the park * * *

Then, in 1989 the State Regional Advisory Council for the Interior and Southcentral regions of Alaska recommended to the Board of Game the addition of Northway to the resident zone for Wrangell-St Elias National Park. In response to the recommendation the US Fish and Wildlife Service director, who had been delegated the responsibility to review and respond to regional council recommendations, replied;

The Subsistence Resource Commission for Wrangell-St. Elias National Park did not provide any documentation or indication that such documentation existed in association with their recommendation. Therefore, the recommendation was denied and will not be reconsidered until data is available to indicate a resident zone designation is warranted.

Again in December of 1991, the SRC forwarded a recommendation to the Secretary for the addition of Northway to the resident zone. The Secretary's response (July 1992) was, in part,

* * * the NPS must first verify that a significant concentration of local rural residents with a history of subsistence use of the park's resources currently resides within the community of Northway. If this “significant concentration” requirement is verified, the NPS will define the boundaries of the community for resident zone designation purposes, and initiate a rulemaking process to add Northway as a park resident zone community.

After establishment of the Federal Subsistence Regional Advisory Council system in 1993, the request to add Northway and Tetlin was forwarded by the Southcentral and Eastern Interior Subsistence Regional Advisory Councils to the Federal Subsistence Board, as well. The response to the regional advisory council (February 1994) came from the Regional Director of NPS. His response, in part, said,

The park is currently seeking funding to conduct the surveys necessary to assess Northway's possible addition as a resident zone community. Before NPS considers conducting any studies regarding the community of Tetlin and its potential designation as a resident zone community, consultation with the SRC is warranted. The Federal Subsistence Board is currently gathering information on the customary and traditional uses of large mammal species in the Upper Tanana region by communities of that region, including Tetlin and Northway. We expect the information accumulated as a result of that process will contribute to the question of whether the community of Northway had a customary and traditional subsistence use of the lands within the park.

In 1994, information documenting the customary and traditional use of resources by residents of these communities was compiled for the Federal Subsistence Board. During the process, residents of these communities contributed information regarding their use of park resources that had not previously been documented in subsistence studies. This information, coupled with previous study data, indicated that the addition of these communities into the resident zone had substantial merit.

The recommendation to add additional communities to the Wrangell-St. Elias National Park resident zone evolved across a period of 10 years. The Subsistence Resource Commission for the park as well as state and federal regional advisory groups supported the inclusion of new communities to the resident zone. Formal recommendations to regulators as well as meeting minutes indicate the overall support at the public advisory group level. These recommendations have been the subject of public testimony for the past 10 years. Minutes from meetings of the SRC, regional advisory councils and local advisory committees provide a public record reflecting the high level of support for these proposals in the villages. Comments submitted by the villages regarding subsistence issues in the state also reflect their sentiment on this issue.

Studies and Information Used

In determining which additional communities outside the park boundary were eligible for inclusion in the resident zone, the NPS considered all relevant evidence concerning these communities' qualifications. NPS reviewed studies of the subsistence use of resources in the region, independently analyzed data collected in such studies and considered mapped information developed in the past decade. NPS considered comments received from the general public, the state of Alaska and the local and regional advisory groups. NPS also relied on the knowledge of its own local field staff and the considerable traditional knowledge of the people who inhabit the region.

Alternatives Considered and Rejected

The NPS considered issuance of permits (pursuant to 36 CFR 13.44) to all eligible subsistence users in the villages of Dot Lake, Tetlin, Tanacross, Northway, and Healy Lake. This alternative was rejected, however, because of the burden this process would place on the subsistence user and the large administrative workload the NPS would shoulder as a result of taking such an action. For NPS to determine which individuals or households are eligible for a permit each household in these communities would be required to document, in detail, their subsistence use of the park. Previous attempts by NPS to encourage eligible households to come forward for permits have elicited no response. The Native people in these villages find this process foreign to their culture and choose not to participate in it. The NPS is seeking to avoid implementation of such an invasive process when it may clearly and legitimately be avoided. This decision is supported in House and Senate discussions prior to passage of the Alaska National Interest Lands Conservation Act of 1980 (ANILCA). (S. Rep. No. 96-413, supra, 170-71; 126 Cong. Rec at H 10541).

Application of Criteria

NPS regulations in 36 CFR 13.43(a)(2) set forth the criteria by which resident zone communities or areas may be added or deleted. This section states, in part, that a resident zone shall include,

The communities or areas near a national park or monument which contain significant concentrations of rural residents who, without using aircraft as a means of access for purposes of taking fish and wildlife for subsistence uses * * * have customarily and traditionally engaged in subsistence uses within a national park or monument.

The preamble to these regulations (46 FR 31841, June 17, 1981) clarifies how the agency intended the “significant concentration” criteria be interpreted. As a result of public comment on the 1981 proposed rule, NPS recognized that there would necessarily be limitations in any numerical data developed by NPS to make such decisions. NPS determined that an evaluation of communities or areas eligible for inclusion in a resident zone would need to consider the unique variables associated with each area, many of which cannot be reduced to a numerical value.

The 1981 preamble notes that, in establishing the criteria for adding and deleting resident zones, NPS chose to substitute the word “significant” for “preponderant” in the phrase “communities and areas * * * which contain significant concentrations of rural residents who, without the use of aircraft * * * have customarily and traditionally engaged in subsistence uses within a national park or monument.” The term “preponderant” implied more numerical precision than is possible without an extensive standardized study of rural villages in the state. The term “significant” was adopted to clarify that the subsistence experts must exercise some discretion in examining the nature and needs of each community.

Furthermore, the National Park Service stated that concentrations may be “significant” in relative quantity (predominant numbers) or quality (e.g., cultural vitality, community leadership and influence)(46 FR 31850, June 17, 1981). Again, NPS recognized the variability in the subsistence harvest of resources across the state and the incomparable factors that define individual communities and people in each region that should be considered in such an evaluation.

Studies conducted in these communities that attempt to quantify the subsistence use of resources generally only represent a period of use of one year, and usually rely on a sample of the community to produce a harvest picture for the community as a whole. Although these data make important contributions to the literature on subsistence use of resources in this region, the studies were not designed to address the specific question of use of resources in the national park. Therefore, this rulemaking does not rely solely on the limited numeric data generated by these studies. Instead, this analysis focuses on the quality of the use and the importance of resource harvests to the Native people of the region.

Analysis

Dot Lake, Tetlin, Tanacross, Northway, and Healy Lake are rural Alaska Native villages consisting, primarily, of Athabaskan Indian people. According to the 1990 census, the communities contain 58, 95, 94, 77, and 85% Athabaskan Indians, respectively. These Athabaskans are descendants of one of a number of Ahtna, Tanacross and Upper Tanana bands that harvested resources and otherwise occupied the Wrangell-St. Elias National Park area. The non-Native populations of these communities were generally born outside of the state, with an average length of residency of 11 years (based on a 1987 survey).

The Upper Tanana, Tanacross and Ahtna Athabaskan people who reside in these communities are recognized as two of nine linguistic subgroups of Interior Alaska. Historically, these people thought of themselves in terms of small, local bands constituting both social and geographical units. Bands generally consisted of a group of families with a defined territory. Through marriage, geography and common interests, bands would be sufficiently interlocked to consider themselves part of a larger unit, or regional band (i.e., Upper Tanana, Tanacross or Ahtna).

At the turn of the century there were at least six different bands of central and upper Tanana Athabaskans between the White River and Healy Lake on the Tanana River; and two upper Ahtna bands occupying the area between the Mentasta and Wrangell Mountains. These areas roughly include the northern one-third of the Wrangell-St. Elias National Park and Preserve.

Each band was associated with a specific territory within the region. However, the people were seasonal migrants and households with extensive kin connections and might hunt over large areas of another band's territory. At no one time was the whole area occupied, but it did constitute the hunting territory of the group. Early anthropologists visiting the region described the bands as something of a cultural continuum consisting of a series of interlocking local bands whose culture varied only in minor details from one to the next, rather than as discrete units. A great deal of communication and interaction among the bands occurred. The diversity of resources available was often limited in a given band's territory, necessitating cooperation with other bands for use of their lands and resources.

The Athabaskan culture is based on a flexible system of exchange. Territory, resources and people readily crossed band territories as the need arose. Relations between the Ahtna and Upper Tanana and Tanacross Indians were close enough to allow exchange of goods, information and food when needed. Marriages across lines resulted in a net of kin ties that can be traced today through the Native villages in the region.

The Athabaskan people were seasonal fish and wildlife hunters and gatherers, moving from one temporary dwelling to another as necessary to exploit local resources. Their movement to fall, winter, spring and summer camps was a common practice. As hunters and gatherers in a relatively harsh environment, survival commonly depended upon their ability to know and utilize alternative plant and animal resources when conditions warranted. Often, when resources were in short supply, travel to distant places to harvest resources in another band's territory was necessary.

Ketchumstuk, Mansfield and Batzulnetas are sites of seasonal camps important to the Athabaskan people in this region. Caribou fences located near Ketchumstuk and Mansfield provided a means of harvesting meat for a large number of people of both Upper Tanana, Tanacross and Ahtna descent. Likewise, Batzulnetas is one of the few close places where salmon can be harvested; its resources are used by many through an extensive sharing network. Batzulnetas, located within the boundaries of Wrangell-St Elias National Park, was occupied continuously for more than a century until about 1940.

The late nineteenth to early twentieth century was a time of accelerated cultural change for Interior Athabaskans. From the time of the first non-Native-contact (about 1880), material goods, technological changes, imposed harvest limits and epidemic diseases introduced in the region caused major changes in the Native culture and subsistence lifestyle. Traditional dwellings were abandoned, people adapted to new technology and semi-permanent riverine villages sprang up in place of seasonal camps. Seasonal movements were then reduced to a dual pattern of winter villages and summer fish camps. During that time Batzulnetas continued to be occupied, at least seasonally, for the purpose of subsistence hunting and fishing.

Mining had a tremendous impact on subsistence hunting during the period. In 1913, several thousand people flooded into the region via the White, Tanana and Copper Rivers during the “Chisana stampede” in search of gold. Miners largely employed Native people as hunters or hunted themselves for food. Depletion of wildlife resources due to the large influx of people, here as well as in other parts of the state, prompted the implementation of harvest regulations in 1926 that affected the subsistence harvests of resources by Native people in the region.

Mandatory schooling imposed in about 1950, seasonal labor opportunities and steady access to trade goods contributed to a more sedentary lifestyle for most Native people in the region. By then Tetlin, Tanacross, Northway, and Healy Lake had become permanent settlements at or near their modern day locations. Dot Lake was evolving from a seasonal camp for Alaska Highway workers to a village composed primarily of Alaska Native people of Ahtna, Upper Tanana and Tanacross Athabaskan descent who migrated there from several local villages.

After World War II, Alaska gained statehood (1959). Resource development prospered, accelerating the Native land claims process. The trans-Alaska oil pipeline was built from 1974 to 1977, causing economic and demographic changes that continued years after completion. Capital improvements in urban and rural areas of the state funded primarily by oil revenues created employment opportunities. Rapid population growth followed the development of support industries and the growth of state and federal infrastructures. The large influx of people into the region resulted in an increasingly more common imposition of regulatory prohibitions on the harvest of certain species, the season of harvest and so on to protect a dwindling supply of game. Each of these factors in some respect contributed to changes in the subsistence way of life.

Despite the changes that have occurred, in recent decades, the Native people of these villages still identify with the places where they were raised and from which their parents came. Places such as Batzulnetas, Mansfield and Ketchumstuk remain of primary importance to Athabaskan people in these communities. Although none of these sites is permanently occupied today, they continue to be used seasonally for the purpose of hunting, fishing and gathering within the current regulatory structure.

Although some new technological advances have been employed by Native subsistence users, the use of aircraft for harvest of resources seldom occurs. Only a fraction of the people in these communities have used an aircraft in an effort to harvest resources. Documented instances did not occur in the park.

The amount and diversity of resources harvested are two measures that distinguish these five subsistence communities from others. They harvest a wide variety of resources (caribou, moose, fish, and so forth) typical of rural subsistence users across the state; and they are high harvesters of resources. The number of species harvested in these communities rank among the highest of any community in the region. Study data indicate that residents in the five communities harvest salmon, moose and caribou from Batzulnetas. Other species may be harvested from that area as well.

Exchange and gifting of resources harvested for subsistence purposes remain a central component of the Athabaskan culture. Such exchanges occur in the context of a potlatch, to reciprocate for the assistance given by another, or to provide native foods for elders and those unable to hunt. Reciprocal relations and gifting strengthen kinship ties between the people of these communities and educate the children in the ways of the Athabaskan people. Exchanges are made in the form of harvested resources, use of technology (such as a fishwheel) and the offer of the use of preferred fishing or hunting sites, such as Batzulnetas.

Exchange and gifting result in the distribution of resources throughout households in local communities although the actual harvest may have been accomplished by only a few. Examples of the gifting and exchange of resources harvested from Batzulnetas are documented in the literature for Dot Lake Tetlin, Tanacross, Northway, and Healy Lake.

Conclusion

Dot Lake Tetlin, Tanacross, Northway, and Healy Lake are all rural communities near Wrangell-St. Elias National Park and Preserve. The communities contain a significant concentration of Athabaskan Indians whose lifestyle is centered around the subsistence harvest of resources in the same areas their ancestors used for centuries. This area includes (approximately) the northern third of Wrangell-St. Elias National Park and Preserve, which is composed of both park lands and preserve. Residents of these communities do not use aircraft in the subsistence harvest of resources in this area.

Effects of Proposed Regulation

The purpose of this rule is to add five communities to the subsistence resident zone for Wrangell-St.Elias National Park in accordance with the procedure at 36 CFR 13.43(b). This action is in response to instructions from the Secretary of the Interior and requests from several FACA advisory groups and individual park subsistence users. A collateral administrative purpose consistent with the Secretary's instructions is to add a paragraph to § 13.73 establishing a method for determining community and area boundaries for resident zone purposes.

Drafting Information

The primary authors of this regulation are Jay Wells, Wrangell-St.Elias National Park and Preserve, and Janis Meldrum and Paul Hunter, Alaska System Support Office, Anchorage, Alaska.

Compliance With Other Laws

Regulatory Planning and Review (EO 12866)

This document is not a significant rule and is not subject to review by the Office of Management and Budget under Executive Order 12866.

(1) This rule will not have an effect of $100 million or more on the economy. It will not adversely affect in a material way the economy, productivity, competition, jobs, the environment, public health or safety, or State, Local, or tribal governments or communities. The net effect of adoption of this rule would be to reduce costs by eliminating the need for subsistence users to apply for a permit. The cost saving would accrue to the affected user groups and the park through reduction of actual and potential administrative costs.

(2) This rule will not create a serious inconsistency or otherwise interfere with an action taken or planned by another agency. There will be no change in the manner or substance of interaction with other agencies.

(3) This rule does not alter the budgetary effects or entitlements, grants, user fees, or loan programs or the rights or obligations of their recipients. Current and potential subsistence permittees will continue to be eligible under the resident zone system.

(4) This rule does not raise novel legal or policy issues. This rule is the direct consequence of an existing regulatory method for administering the resident zone system. While the decision concerning adding or deleting a particular community could be controversial, the regulatory process for making the decision is well established in existing regulations.

Regulatory Flexibility Act

The Department of the Interior certifies that this document will not have a significant economic effect on a substantial number of small entities under the Regulatory Flexibility Act (5 U.S.C. 601 et seq.). The economic consequences of this rule will be to reduce administrative costs for private citizens and for the park. The permitting process that would be eliminated for the residents of five communities operates directly between individual subsistence users and the park. Therefore, there is no impact on small entities and a Regulatory Flexibility Analysis and Small Entity Compliance Guide are not required.

Small Business Regulatory Enforcement Fairness Act (SBREFA)

This rule is not a major rule under 5 U.S.C. 804(2), the Small Business Regulatory Enforcement Fairness Act. This rule:

a. Does not have an annual effect on the economy of $100 million or more. This rule applies to individual subsistence users. It has no applicability to small businesses.

b. Will not cause a major increase in costs or prices for consumers, individual industries, Federal, State, or local government agencies, or geographic regions. This rule will reduce costs for private citizens and the federal government. It will eliminate the need for subsistence users in five communities to apply to the National Park Service for a subsistence permit. The rule will eliminate application costs to individual subsistence users such as the cost of a phone call, postage, or travel to the park office, and will reduce the current and potential administrative processing costs for the park.

c. Does not have significant adverse effects on competition, employment, investment, productivity, innovation, or the ability of U.S.-based enterprises to compete with foreign-based enterprises. This rule does not affect foreign trade. The interaction of the subsistence economy and the general economy is unchanged by this rule.

Executive Order 13211

On May 18, 2001, the President issued an Executive Order (EO 13211) on regulations significantly affect energy supply, distribution, and use. Executive Order 13211 requires agencies to prepare Statements of Energy Effects when undertaking certain actions. As this interim rule is not expected to significantly affect energy supplies, distribution, or use, this action is not a significant energy action and no Statement of Energy Effects is required.

Unfunded Mandates Reform Act

This rule does not impose an unfunded mandate on State, local, or tribal governments or the private sector of more than $100 million per year. The rule does not have a significant or unique effect on State, local or tribal governments or the private sector. This rule affects the permitting process between individual subsistence users and the park. There is no involvement of small governments in this relationship. The subsistence activities affected occur only on federal public lands within a national park.

Takings

In accordance with Executive Order 12630, the rule does not have significant takings implications. This rule will modify regulations in a manner that reduces the regulatory impact on private citizens, and is, therefore, excluded from EO 12630.

Federalism (EO 13132)

In accordance with Executive Order 13132, the rule does not have sufficient federalism implications to warrant the preparation of a Federalism Assessment. This rule applies to the permitting relationship between individual subsistence users and the park for activities occurring on federal public lands within the park. The rule does not change or impact the relationship of the park with State and local governments.

Civil Justice Reform (EO 12988)

In accordance with Executive Order 12988, the Office of the Solicitor has determined that this rule does not unduly burden the judicial system and meets the requirements of sections 3(a) and 3(b)(2) of the Order.

Paperwork Reduction Act

This regulation does not require an information collection from 10 or more parties and a submission under the Paperwork Reduction Act is not required. An OMB form 83-I is not required. This rule will eliminate permit applications for residents of the five affected communities, thus reducing the level of previously approved information collection (see 46 FR 31854) associated with subsistence management in the park.

National Environmental Policy Act

This rule does not constitute a major Federal action significantly affecting the quality of the human environment. However, Environmental Assessments (EA's) and findings of no significant impact (FONSI's) have been completed and are on file in the NPS office at 2525 Gambell St, Anchorage, AK 99503 and at Wrangell-St. Elias National Park and Preserve offices in Copper Center.

Government-to-Government Relationship With Tribes

In accordance with the President's memorandum of April 29, 1994, “Government-to-Government Relations with Native American Tribal Governments” (59 FR 22951) and 512 DM 2 there are no effects on federally recognized Indian tribes. This rule applies to individual subsistence users. If the rule is adopted, the result will be an elimination of the requirement for certain subsistence users to apply for a permit to engage in allowable subsistence activities in the park. Subsistence use on federal public lands is not managed as a tribal activity and the federal subsistence program does not apply on Native owned lands.

Clarity of This Regulation

Executive Order 12866 requires each agency to write regulations that are easy to understand. We invite your comments on how to make this rule easier to understand, including answers to questions such as the following: (1) Are the requirements in the rule clearly stated? (2) Does the rule contain technical language or jargon that interferes with its clarity? (3) Does the format of the rule (grouping and order of sections, use of headings, paragraphing, etc.) aid or reduce its clarity? (4) Would the rule be easier to understand if it were divided into more (but shorter) sections? (A “section” appears in bold type and is preceded by the symbol “§ ” and a numbered heading; for example, § 13.73 [amended]. (5) Is the description of the rule in the Supplementary Information section of the preamble helpful in understanding the proposed rule? What else could we do to make the rule easier to understand?

Send a copy of any comments that concern how we could make this rule easier to understand to: Office of Regulatory Affairs, Department of the Interior, Room 7229, 1849 C Street, NW., Washington, DC 20240. You may also email the comments to this address: Exsec@ios.doi.gov.

Public Participation

If you wish to comment, you may submit your comments by any one of several methods. You may mail comments to: Superintendent, Wrangell-St. Elias National Park and Preserve, P.O. Box 439, Copper Center, Alaska 99573. You may also comment via the Internet to Devi_Sharp@nps.gov. Please submit Internet comments as an ASCII file avoiding the use of special characters and any form of encryption. Please also include “ATTN: RIN 1024-AC83” and your name and address in your Internet message. Fax: (907) 822-7216. Finally, you may hand-deliver comments to Wrangell-St. Elias National Park and Preserve, Mile 105.5 Old Richardson Highway, Copper Center, Alaska. Our practice is to make comments, including names and home addresses of respondents, available for public review during regular business hours. Individual respondents may request that we withhold their home address from the rulemaking record, which we will honor to the extent allowable by law. There also may be circumstances I which we would withhold from the rulemaking record a respondent's identity as allowable by law. If you wish us to withhold your name and/or address, you must state this prominently at the beginning of your comment. However, we will not consider anonymous comments. We will make all submissions from organizations or businesses, and from individuals identifying themselves as representatives of officials of organizations or businesses, available for public inspection in their entirety.

List of Subjects in 36 CFR Part 13

Alaska, National Parks, Reporting and record keeping requirements.

In consideration of the foregoing, 36 CFR part 13 is amended as follows:

PART 13—NATIONAL PARK SYSTEM UNITS IN ALASKA

Subpart C—Special Regulations—Specific Park Areas in Alaska

1. The authority citation for Part 13 continues to read as follows:

Authority: 16 U.S.C. 1, 3, 462(k), 3101 et seq.; § 13.65 also issued under 16 U.S.C. 1a-2(h), 1361, 1531.

2. Amend § 13.73 as follows:

a. By revising the heading of paragraph (a)(1) and by adding the following entries in alphabetical order to the list of communities in paragraph (a)(1);

b. By redesignating paragraph (a)(2) as paragraph (a)(3);

c. By adding a new paragraph (a)(2);

d. By revising the heading of newly redesingated paragraph (a)(3).

The addition and revisions read as follows:

§ 13.73 Wrangell-St. Elias National Park and Preserve.

(a) Subsistence—(1) What communities and areas are included in the park resident zone?

* * * * *

Dot Lake

* * * * *

Healy Lake

* * * * *

Northway/Northway Village/Northway Junction

* * * * *

Tanacross

* * * * *

Tetlin

* * * * *

(2) How are boundaries determined for communities added to the park resident zone? Boundaries for communities and areas added to the park resident zone will be determined by the Superintendent after consultation with the affected area or community. If the Superintendent and community are not able to agree on a boundary within two years, the boundary of the area or community added will be the boundary of the Census Designated Place, or other area designation, used by the Alaska Department of Labor for census purposes for that community or area. Copies of the boundary map will be available in the park headquarters office.

(3) What communities are exempted from the aircraft prohibition for subsistence use?

* * * * *

Dated: June 5, 2001.
Marshall Jones, Jr.,
Acting Assistant to the Assistant Secretary, Fish and Wildlife and Parks.

[FR Doc. 01-14787 Filed 6-13-01; 8:45 am]

BILLING CODE 4310-70-P